DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

Proposed Project 1. Evaluation of the Cash and Counseling Demonstration—0990-0223—Extension—Cash and Counseling is a consumer directed care model for individuals in need of personal assistance services. A demonstration project utilizing this model is being undertaken. The Office of the Assistant Secretary for Planning and Evaluation (ASPE), in partnership with the Robert Wood Johnson Foundation, is engaging in information collection for the purpose of evaluating this demonstration project. Controlled experimental design methodology is being used to test the effects of the experimental intervention: cash payments in lieu of arranged services for Medicaid covered beneficiaries: Respondents: Individuals or Households.

Burden Information for Client Interviews (0990-0223)
Instrument | Annual number of respondents | Hours per response | Burden hours
Baseline Survey | 1,020 | .38 | 388
4/6 Month Survey | 1,049 | .33 | 465
9 Month Survey | 3,629 | .70 | 2,540
Participation Survey | 1,292 | .08 | 103
Total |  |  | 3,496

OMB Desk Officer: Allision Herron Eydt.

Copies of the information collection packages listed above can be obtained by calling the OS Reports Clearance Officer on (202) 690-6207. Written comments and recommendations for the proposed information collection should be sent directly to the OMB desk officer designated above at the following address:

Human Resources and Housing Branch,Office of Management and Budget,New Executive Office Building, Room 10235,725 17th Street NW.,Washington, DC 20503.

Comments may also be sent to Cynthia Agens Baurer, OS Reports Clearance Officer, Room 503H, Humphrey Building, 200 Independence Avenue SW., Washington, DC 20201. Written comments should be received within 30 days of this notice.

Dated: January 3, 2002.
Kerry Weems,
Acting Deputy Assistant Secretary, Budget.

[FR Doc. 02-1266 Filed 1-16-02; 8:45 am]

BILLING CODE 4154-05-M